DEPARTMENT OF TRANSPORTATION

Coast Guard

33 CFR Part 165

[CGD01-01-197]

RIN 2115-AA97

Safety Zone; Route 1 Bascule Bridge, Mystic River, Mystic, CT

AGENCY: Coast Guard, DOT.

ACTION: Temporary final rule; request for comments.

SUMMARY: The Coast Guard is establishing a temporary safety zone on all waters of the Mystic River within 100 feet of both the north and south side of the Mystic River Route 1 Bascule Bridge in Mystic, CT. This safety zone will prevent marine traffic from transiting beneath the bridge while it is being renovated. The safety zone is needed to enable the placement of construction barges in close proximity of the bridge, thus blocking the waterway, and to protect marine traffic from the hazards associated with this operation.

DATES: This rule is effective from 7 a.m. (EST) on December 1, 2001 to 7 a.m. (EST) on April 15, 2002. Comments and related material must reach the Coast Guard Group/Marine Safety Office Long Island Sound, Waterways Management Branch, on or before December 7, 2001.

ADDRESSES: Comments and material received from the public, as well as documents indicated in this preamble as being available in the docket, will become part of docket CGD01-01-197 and will be available for inspection or copying at Coast Guard Group/Marine Safety Office Long Island Sound, Waterways Management Branch, 120 Woodward Avenue, New Haven, CT between 8 a.m. and 3 p.m., Monday through Friday, except Federal holidays.

FOR FURTHER INFORMATION CONTACT: Lieutenant (junior grade) Pamela P. Garcia, Waterways Management Branch, Group/MSO Long Island Sound, telephone (203) 468-4429.

SUPPLEMENTARY INFORMATION:

Request for Comments

We encourage you to participate in this rulemaking by submitting comments and related material. If you do so, please include your name and address, identify the docket number (CGD01-01-197), indicate the specific section of this document to which each comment applies, and give the reason for each comment. You may submit your comments and material by mail or hand delivery to Coast Guard Group/Marine Safety Office Long Island Sound, Waterways Management Branch, at the address under ADDRESSES in an unbound format, no larger than 8½ by 11 inches, suitable for copying and electronic filing. If you would like to confirm receipt of your comments or material, please enclose a stamped, self-addressed postcard or envelope. We will consider all material received during the comment period. We may change this rule in view of them.

Regulatory Information

We did not publish a notice of proposed rulemaking (NPRM) for this regulation. Under 5 U.S.C. 553(b)(B), the Coast Guard finds that good cause exists for not publishing an NPRM. The safety zone is being established to enable the continued renovation of the Mystic River Route 1 Bascule Bridge. This operation is the final phase of a multi-year bridge renovation project. The project was divided into two phases to help alleviate the burden upon local mariners. The renovation takes place during the winter months when recreational boating traffic is minimal.

At the outset of the project, the State of Connecticut Department of Transportation held two public information meetings to discuss the need for and timing of a safety zone that effectively closes the navigable channel beneath the bridge. No opposition to the proposed dates was received. In addition, Connecticut DOT corresponded with a number of known waterway users for the same purpose. No objections to the proposed dates were registered.

The first phase of the project requiring channel closure began December 1, 2000 and ended April 15, 2001. The closure period during the winter months had minimal impact on the needs of navigation. No complaint or objection was registered by any waterway users. Similarly, the effective dates of the present safety zone should have minimal impact on navigation. Accordingly, we determined that it was unnecessary to engage in the NPRM process for the waterway closure during the effective period of this rule. The public is invited to submit comments during the prescribed period. We may change this rule after consideration of any comments we receive.

Under 5 U.S.C. 553(d), we have determined that good cause exists for making this rule effective less than 30 days following its publication in the Federal Register. Construction crews will begin rehabilitation work on the bridge December 1, 2001. Any delay in the effective date of the safety zone beyond the start of construction would be contrary to the public interest insofar as that work may pose hazards to mariners who would otherwise pass beneath the bridge.

Background and Purpose

The Coast Guard is establishing a temporary safety zone on all waters of the Mystic River within 100 feet of both the north and south side of the Mystic River Route 1 Bascule Bridge, located in approximate position 41°21′3″ N, 071°58′1″ W. This safety zone is effective from 7 a.m. (EST) on December 1, 2001 to 7 a.m. (EST) on April 15, 2002. The safety zone will enable the state of Connecticut to complete the second phase of a two-year bridge renovation project that began in December 2000. A large construction barge will be placed near the bridge during renovation work thus blocking the waterway and preventing mariners from transiting through this portion of the Mystic River. The safety zone is also necessary to prevent mariners from the hazards associated with renovation and rehabilitation work on the bridge.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Although this regulation prevents traffic from transiting a portion of the Mystic River, the effect of this regulation will not be significant for the following reasons: The bridge will not open to traffic during the construction period, therefore potential traffic will be limited to those vessels that could fit under the closed bridge; commercial traffic on the Mystic River north of the Route 1 Bascule Bridge is very limited; recreational traffic is minimal during the time of year the construction will occur; extensive advance notifications will be made to the maritime community via the Local Notice to Mariners, and marine information broadcasts; and prior to commencement of phase-one of this construction project the Mystic River Chamber of Commerce Task Group conducted several open meetings and communicated with local mariners regarding the closure periods.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which might be small entities: the owners or operators of vessels intending to transit the boundaries of the safety zone during its effective dates. This rule will not have a substantial affect on small entities for the following reasons. There is very little commercial traffic north of the Route 1 Bascule Bridge. Recreational traffic needing to transit through the boundaries of the safety zone is minimal during the time of year the construction will occur. The Mystic River Chamber of Commerce Task Group has conducted several public meetings and corresponded with local mariners regarding the need for and timing of the waterway closure. Any entities that might be affected by the closure have had sufficient advance notice to make alternate arrangements. In addition, extensive advance notifications will be made to the maritime community via the Local Notice to Mariners and marine information broadcasts.

Assistance for Small Entities

Under section 213(a) of the Small Business Regulatory Enforcement Fairness Act of 1996 (Public Law 104-121), we offered to assist small entities in understanding the rule so that they could better evaluate its effects on them and participate in the rulemaking process. If the rule would affect your small business, organization, or governmental jurisdiction and you have questions concerning its provisions or options for compliance, please submit a comment (see ADDRESSES) explaining why you think it qualifies and in what way and to what degree this proposed rule would economically affect it.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(g), of Commandant Instruction M16475.lD, this rule is categorically excluded from further environmental documentation.

List of Subjects in 33 CFR Part 165

Bridges.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.051(g), 6.04-1, 6.04-6, 160.5; 49 CFR 1.46.

2. From December 1, 2001 to April 15, 2002, add § 165.T01-197 to read as follows:

§ 165.T01-197 Safety Zone: Route 1 Bascule Bridge, Mystic River, Mystic, CT

(a) Location. The following area is designated as a safety zone: all waters of the Mystic River within 100 feet of both the north and south sides of the Route 1 Bascule Bridge located in approximate position 41°21′3″ N, 071°58′1″ W.

(b) Enforcement period. This section is effective from 7 a.m. (EST) December 1, 2001 to 7 a.m. (EST) April 15, 2002.

(c) Regulations. (1) The general regulations contained in 33 CFR 165.23 apply.

(2) All persons and vessels shall comply with the instructions of the Coast Guard Captain of the Port or the designated on-scene-patrol personnel. These personnel comprise commissioned, warrant, and petty officers of the Coast Guard. Upon hailed by a U.S. Coast Guard vessel by siren, radio, flashing light, or other means, the operator of a vessel shall proceed as directed.

Dated: October 23, 2001.
Joseph J. Coccia,
Captain, U.S. Coast Guard, Captain of the Port, Group/MSO Long Island Sound.

[FR Doc. 01-28006 Filed 11-6-01; 8:45 am]

BILLING CODE 4910-15-P